DEPARTMENT OF COMMERCE

International Trade Administration

[A-570-032]

Certain Iron Mechanical Transfer Drive Components From the People's Republic of China: Preliminary Determination of Sales at Less Than Fair Value and Postponement of Final Determination

AGENCY: Enforcement and Compliance, International Trade Administration, Department of Commerce.

SUMMARY: The Department of Commerce (the “Department”) preliminarily determines that certain iron mechanical transfer drive components (“IMTDC”) from the People's Republic of China (“PRC”) are being, or are likely to be, sold in the United States at less than fair value (“LTFV”), as provided in section 733 of the Tariff Act of 1930, as amended (the “Act”). The period of investigation (“POI”) is April 1, 2015, through September 30, 2015. The estimated margins of sales at LTFV are shown in the “Preliminary Determination” section of this notice. Interested parties are invited to comment on this preliminary determination.

DATES: Effective June 8, 2016.

FOR FURTHER INFORMATION CONTACT: Krisha Hill or Jonathan Hill, AD/CVD Operations, Office IV, Enforcement and Compliance, International Trade Administration, U.S. Department of Commerce, 14th Street and Constitution Avenue NW., Washington, DC 20230; telephone: (202) 482-4037 or (202) 482-3518, respectively.

SUPPLEMENTARY INFORMATION:

Background

The Department published the notice of initiation of this investigation on November 25, 2015.¹ On December 18, 2015, in accordance with section 777A(c)(2)(B) of the Act, the Department selected the two exporters accounting for the largest volume of IMTDC from the PRC during the POI (i.e., NOK (Wuxi) Vibration Control China Co. Ltd. (“NVCC”) and Powermach Import & Export Co., Ltd. (Sichuan) (“Powermach”) as mandatory respondents. Nine other companies filed separate rate applications. On April 19, 2016, NVCC withdrew from participation as a mandatory respondent in the investigation.² Pursuant to section 733(c)(1)(A) of the Act, the Department postponed this preliminary LTFV determination by 50 days until May 31, 2016.³ For a complete description of the events that followed the initiation of this investigation, see the Preliminary Decision Memorandum that is dated concurrently with and hereby adopted by this notice.⁴

¹ See Certain Iron Mechanical Transfer Drive Components from Canada and the People's Republic of China: Initiation of Less-Than-Fair-Value Investigations, 80 FR 73716 (November 25, 2016) (“Initiation Notice”).

² See Letter from NVCC to the Secretary of Commerce “Certain Iron Mechanical Transfer Drive Components from the People's Republic of China: Withdrawal from Investigations,” dated April 19, 2016 (“NVCC Non-Participation Letter”).

³ See Certain Iron Mechanical Transfer Drive Components from Canada and the People's Republic of China: Postponement of Preliminary Determinations of Antidumping Duty Investigations, 81 FR 12687 (March 10, 2016).

⁴ See Memorandum from Christian Marsh, Deputy Assistant Secretary for Antidumping and Countervailing Duty Operations, to Paul Piquado, Assistant Secretary for Enforcement and Compliance “Decision Memorandum for the Preliminary Determination of the Antidumping Duty Investigation of Certain Iron Mechanical Transfer Drive Components from the People's Republic of China” (“Preliminary Decision Memorandum”).

The Preliminary Decision Memorandum is a public document and is made available to the public via Enforcement and Compliance's Antidumping and Countervailing Duty Centralized Electronic Service System (“ACCESS”). ACCESS is available to registered users at http://access.trade.gov, and is available to all parties in the Department's Central Records Unit, Room B8024 of the main Department of Commerce building. In addition, a complete version of the Preliminary Decision Memorandum can be accessed directly on the Internet at http://enforcement.trade.gov/frn/. The signed and the electronic versions of the Preliminary Decision Memorandum are identical.

Tolling and Postponement of Deadline for Preliminary Determination

As explained in the memorandum from the Acting Assistant Secretary for Enforcement and Compliance, the Department exercised its discretion to toll deadlines for the duration of the partial closure of the Federal Government due from Snowstorm “Jonas” from January 22, through January 27, 2016. Therefore, all deadlines in this segment of the proceeding have been extended by four business days.⁵ If the new deadline falls on a non-business day, in accordance with the Department's practice, the deadline will become the next business day.⁶ In this case, the deadline is May 31, 2016.

⁵ See Memorandum for the Record from Ron Lorentzen, Acting Assistant Secretary for Enforcement and Compliance, entitled “Tolling of Administrative Deadlines as a Result of the Government Closure during Snowstorm `Jonas',” dated January 27, 2016.

⁶ See Notice of Clarification: Application of “Next Business Day” Rule for Administrative Determination Deadlines Pursuant to the Tariff Act of 1930, As Amended, 70 FR 24533 (May 10, 2005).

Scope of the Investigation

The merchandise covered by this investigation is iron mechanical transfer drive components. The merchandise subject to this investigation is properly classified under Harmonized Tariff Schedule of the United States (“HTSUS”) subheadings 8483.30.8090, 8483.50.6000, 8483.50.9040, 8483.50.9080, 8483.90.3000, 8483.90.8080. Covered merchandise may also enter under the following HTSUS subheadings: 7325.10.0080, 7325.99.1000, 7326.19.0010, 7326.19.0080, 8431.31.0040, 8431.31.0060, 8431.39.0010, 8431.39.0050, 8431.39.0070, 8431.39.0080, and 8483.50.4000. Although the HTSUS subheadings are provided for convenience and customs purposes, the written description of the merchandise under investigation is dispositive. For a complete description of the scope of the investigation, see Appendix I to this notice.

Scope Comments

In accordance with the preamble to the Department's regulations,⁷ the Initiation Notice set aside a period of time for parties to raise issues regarding product coverage (i.e., “scope”).⁸ Certain interested parties commented on the scope of the investigation, as it appeared in the Initiation Notice. For a summary of the product coverage comments and rebuttal responses submitted to the record, and an accompanying discussion and analysis of all comments timely received, see the Department's Scope Memorandum issued concurrently with this notice.⁹

⁷ See Antidumping Duties; Countervailing Duties, 62 FR 27296, 27323 (May 19, 1997).

⁸ See Initiation Notice, 80 FR at 73716.

⁹ See Memorandum from Abdelali Elouaradia, Director, Office IV, to Christian Marsh, Deputy Assistant Secretary for Antidumping and Countervailing Duty Operations, entitled “Certain Iron Mechanical Transfer Drive Components from Canada and the People's Republic of China: Scope Comments Decision Memorandum for the Preliminary Determinations,” dated concurrently with this notice (“Scope Memorandum”).

On March 30, 2016, Petitioner filed an amendment to the scope of the investigation to exclude certain finished torsional vibration dampers (“TVD”).¹⁰ On April 8, 2016, the Department preliminarily excluded TVDs from the scope of the investigation.¹¹ On May 16, 2016, Petitioner filed an additional amendment to the scope to exclude certain light-duty, fixed- and variable-pitch, non-synchronous sheaves and certain bushings.¹² As discussed in the Scope Memorandum, the Department has preliminarily excluded certain light-duty, fixed- and variable-pitch, non-synchronous sheaves and certain bushings. For a complete description of the scope exclusion language, see the full scope at Appendix II to this notice as well as the Department's Scope Memorandum issued concurrently with this notice.

¹⁰ See Letter from Petitioner to the Secretary of Commerce, entitled “Certain Iron Mechanical Transfer Drive Components from Canada and the People's Republic of China: Petitioner's Amendment to the Scope,” dated March 30, 2016.

¹¹ See Memorandum from Abdelali Elouaradia, Director, Office IV, to Christian Marsh, Deputy Assistant Secretary for Antidumping and Countervailing Duty Operations, entitled “Certain Iron Mechanical Transfer Drive Components from Canada and the People's Republic of China: Scope Comments Regarding Exclusion of Certain Finished Torsional Vibration Dampers,” dated April 8, 2016.

¹² See Letter from TB Woods to the Department, entitled “Certain Iron Mechanical Transfer Drive Components from Canada and the People's Republic of China: Petitioner's Additional Amendment to the Scope,” dated May 16, 2016.

Methodology

The Department is conducting this investigation in accordance with section 731 of the Act. We calculated export prices in accordance with section 772 of the Act. Because the PRC is a non-market economy, within the meaning of section 771(18) of the Act, we calculated normal value (NV) in accordance with section 773(c) of the Act. Further, in accordance with sections 776(a) and (b) of the Act, we preliminarily determined to apply facts otherwise available with an adverse inference in determining the weighted-average dumping margin for the PRC-wide entity and normal value, in part, for Powermach. For a full discussion of the Department's methodology, see the Preliminary Decision Memorandum.

Separate Rates

The Department received separate rate applications from nine companies, in addition to the two mandatory respondents. The Department has preliminarily granted separate-rate status to all of the companies which provided separate rates information, except NVCC, which withdrew from participation as a mandatory respondent in this investigation, Baldor Electric Canada (“Baldor”), and Yueqing Bethel Shaft Collar Manufacturing Co., Ltd. (“Yueqing Bethel”), which did not respond to the Department's request for supplemental information. The Department has treated these three companies as part of the PRC-wide entity. For a full description of the methodology underlying our conclusions, see the Preliminary Decision Memorandum.

Combination Rates

In the Initiation Notice,¹³ the Department stated that it would calculate combination rates for the respondents that are eligible for a separate rate in this investigation. Policy Bulletin 05.1 describes this practice.¹⁴

¹³ See Initiation Notice at 73720-21.

¹⁴ See Enforcement and Compliance's Policy Bulletin No. 05.1, regarding, “Separate-Rates Practice and Application of Combination Rates in Antidumping Investigations involving Non-Market Economy Countries,” (April 5, 2005) (Policy Bulletin 05.1), available on the Department's Web site at http://enforcement.trade.gov/policy/bull05-1.pdf.

Preliminary Determination

The Department preliminarily determines that the following weighted-average dumping margins exist during the period April 1, 2015, through September 30, 2015:

Exporter | Producer | Weighted- average margin (percent)
Powermach Import & Export Co., Ltd. (Sichuan)/Sichuan Dawn Precision Technology Co., Ltd./Sichuan Dawn Foundry Co., Ltd./Powermach Co., Ltd | Powermach Import & Export Co., Ltd. (Sichuan)/Sichuan Dawn Precision Technology Co., Ltd./Sichuan Dawn Foundry Co., Ltd./Powermach Co., Ltd | 2.17
Fuqing Jiacheng Trading Corporation Limited | Fuzhou Min Yue Mechanical & Electrical Co., Ltd | 2.17
Haiyang Jingweida Gearing Co., Ltd | Haiyang Jingweida Gearing Co., Ltd | 2.17
Hangzhou Powertrans Co., Ltd | Shijiazhuang CAPT Power Transmission Co., Ltd | 2.17
Hangzhou Powertrans Co., Ltd | Shanghai CPT Machinery Co., Ltd | 2.17
Hangzhou Powertrans Co., Ltd | Yueqing Bethel Shaft Collar Manufacturing Co., Ltd | 2.17
Hangzhou Powertrans Co., Ltd | Kezheng (Fuzhou) Mechanical & Electrical Manufacture Co., Ltd | 2.17
Hangzhou Powertrans Co., Ltd | Handan Hengfa Transmission Co., Ltd | 2.17
Hangzhou Powertrans Co., Ltd | Shijiazhuang Lihua Mechanical Manufacturing Co., Ltd | 2.17
Hangzhou Powertrans Co., Ltd | Xingtai Shengjia Machinery and Equipment Factory | 2.17
Hangzhou Powertrans Co., Ltd | Shanghai Keli Machinery Co., Ltd | 2.17
Hangzhou Powertrans Co., Ltd | Jiangsu Zhengya Technology Co., Ltd | 2.17
Hangzhou Powertrans Co., Ltd | Taizhou Feiyang Metal Spinning Co., Ltd | 2.17
Hangzhou Powertrans Co., Ltd | Taizhou Pengxun Machinery Manufacturing Co., Ltd | 2.17
Hangzhou Powertrans Co., Ltd | Guangde Ronghua Machinery Manufacturing Co., Ltd | 2.17
Hangzhou Powertrans Co., Ltd | Qiuxian Hengxin Machinery Co., Ltd | 2.17
Hangzhou Powertrans Co., Ltd | Reach Machinery Enterprise | 2.17
Hangzhou Powertrans Co., Ltd | Chengdu Novo Machinery Co., Ltd | 2.17
Hangzhou Powertrans Co., Ltd | Chengdu Leno Machinery Co., Ltd | 2.17
Shijiazhuang CAPT Power Transmission Co., Ltd | Shijiazhuang CAPT Power Transmission Co., Ltd | 2.17
Xinguang Technology Co. Ltd of Sichuan Province | Sichuan Dawn Precision Technology Co., Ltd | 2.17
Zhejiang Damon Industrial Equipment Co., Ltd | Zhejiang Damon Industrial Equipment Co., Ltd | 2.17
Zhejiang Dongxing Auto Parts Co., Ltd | Zhejiang Dongxing Auto Parts Co., Ltd | 2.17
PRC-Wide Entity |  | 401.68

Suspension of Liquidation

In accordance with section 733(d)(2) of the Act, the Department will instruct U.S. Customs and Border Protection (CBP) to suspend liquidation of all entries of IMTDC from the PRC, as described in the “Scope of the Investigation” section, entered, or withdrawn from warehouse, for consumption on or after the date of publication of this notice in the Federal Register.

Pursuant to 19 CFR 351.205(d), the Department will instruct CBP to require a cash deposit ¹⁵ equal to the weighted-average amount by which NV exceeds U.S. price, adjusted where appropriate for export subsidies and estimated domestic subsidy pass-through,¹⁶ as follows: (1) The cash deposit rate for the exporter/producer combinations listed in the table above will be the rate identified in the table; (2) for all combinations of PRC exporters/producers of merchandise under consideration that have not received their own separate rate above, the cash-deposit rate will be the cash deposit rate established for the PRC-wide entity; and (3) for all non-PRC exporters of merchandise under consideration which have not received their own separate rate above, the cash-deposit rate will be the cash deposit rate applicable to the PRC exporter/producer combination that supplied that non-PRC exporter. These suspension of liquidation instructions will remain in effect until further notice.

¹⁵ See Modification of Regulations Regarding the Practice of Accepting Bonds During the Provisional Measures Period in Antidumping and Countervailing Duty Investigations, 76 FR 61042 (October 3, 2011).

¹⁶ See sections 772(c)(1)(C) and 777A(f) of the Act, respectively. Unlike in administrative reviews, the Department calculates the adjustment for export subsidies in investigations not in the margin calculation program, but in the cash deposit instructions issued to CBP. See, e.g., Notice of Final Determination of Sales at Less Than Fair Value, and Negative Determination of Critical Circumstances: Certain Lined Paper Products from India, 71 FR 45012 (August 8, 2006), and accompanying Issues and Decision Memorandum at Comment 1.

In LTFV investigations with a companion countervailing duty (CVD) investigation, we normally adjust antidumping duty cash deposit rates by the amount of export subsidies, where appropriate. In the companion CVD investigation, we preliminarily found that Powermach did not receive export subsidies. The rate for all-others companies in the CVD case was based on Powermach's rate, and thus the all-others companies did not receive an export subsidy rate. Therefore, no offset to Powermach's or the separate rate entities' cash deposit rates for export subsidies is necessary. Additionally, we likewise are not adjusting the cash deposit rate applicable to the PRC-wide entity for export subsidies.

Pursuant to 777A(f) of the Act, we are not adjusting preliminary cash deposit rates for estimated domestic subsidy pass-through. Based on the data on the record of this investigation, the Department does not find a general decrease in the U.S. average import price during the relevant period. Thus, the Department preliminarily finds that the requirement under section 777A(f)(1)(B) of the Act has not been met, and the Department did not make an adjustment under Section 777A(f) of the Act.

Disclosure and Public Comment

We intend to disclose the calculations performed to parties in this proceeding within five days after public announcement of the preliminary determination in accordance with 19 CFR 351.224(b). Case briefs or other written comments may be submitted to the Assistant Secretary for Enforcement and Compliance no later than seven days after the date on which the final verification report is issued in this proceeding and rebuttal briefs, limited to issues raised in case briefs, may be submitted no later than five days after the deadline date for case briefs.¹⁷ Pursuant to 19 CFR 351.309(c)(2) and (d)(2), parties who submit case briefs or rebuttal briefs in this proceeding are encouraged to submit with each argument: (1) A statement of the issue; (2) a brief summary of the argument; and (3) a table of authorities.

¹⁷ See 19 CFR 351.309; see also 19 CFR 351.303 (for general filing requirements).

Pursuant to 19 CFR 351.310(c), interested parties who wish to request a hearing must submit a written request to the Assistant Secretary for Enforcement and Compliance, U.S. Department of Commerce, filed electronically using ACCESS. An electronically filed document must be received successfully in its entirety by the Department's electronic records system, ACCESS, by 5:00 p.m. Eastern Time, within 30 days after the date of publication of this notice.¹⁸ Hearing requests should contain the party's name, address, and telephone number, the number of participants, and a list of the issues parties intend to present at the hearing. If a request for a hearing is made, the Department intends to hold the hearing at the U.S. Department of Commerce, 14th Street and Constitution Avenue NW., Washington, DC 20230, at a time and location to be determined. Parties should confirm by telephone the date, time, and location of the hearing two days before the scheduled date.

¹⁸ See 19 CFR 351.310(c).

Postponement of Final Determination and Extension of Provisional Measures

Section 735(a)(2) of the Act provides that a final determination may be postponed until not later than 135 days after the date of the publication of the preliminary determination if, in the event of an affirmative preliminary determination by the Department, a request for such postponement is made by exporters who account for a significant proportion of exports of the subject merchandise, or in the event of a negative preliminary determination by the Department, a request for such postponement is made by the petitioner. 19 CFR 351.210(e)(2) requires that requests by respondents for postponement of a final antidumping determination be accompanied by a request for extension of provisional measures from a four-month period to a period not more than six months in duration.

On May 5, 2016, pursuant to 19 CFR 351.210(b)(2)(ii), Powermach requested that the Department postpone its final determination, and requested that the Department extend the application of the provisional measures prescribed under section 733(d) of the Act and 19 CFR 351.210(e)(2), from a four-month period to a period not to exceed six months.¹⁹ On May 16, 2016, Petitioner requested that the Department postpone the final determination in the event that the Department makes a negative preliminary determination.²⁰ Further, on May 17, 2016, NVCC also requested that the Department postpone its final determination and requested that the Department extend the application of the provisional measures prescribed under section 733(d) of the Act and 19 CFR 351.210(e)(2), from a four-month period to a period not to exceed six months.²¹

¹⁹ See Letter from Powermach to the Secretary of Commerce “Certain Iron Mechanical Transfer Drive Components from the People's Republic of China: Request for Extension of Final Determination,” dated May 5, 2016 (“Powermach Extension Request”).

²⁰ See Letter from Petitioner to the Secretary of Commerce “Certain Iron Mechanical Transfer Drive Components from Canada and the People's Republic of China: Petitioner's Request to Extend the Final Determinations,” dated May 16, 2016.

²¹ See Letter from NVCC to the Secretary of Commerce “Iron Mechanical Transfer Drive Components from the People's Republic of China: Request to Postpone Final Determination,” dated May 17, 2016.

In accordance with section 735(a)(2)(A) of the Act and 19 CFR 351.210(b)(2)(ii) and (e)(2), because (1) our preliminary determination is affirmative; (2) the requesting exporters account for a significant proportion of exports of the subject merchandise; and (3) no compelling reasons for denial exist, we are postponing the final determination and extending the provisional measures from a four-month period to a period not greater than six months. Accordingly, we will make our final determination no later than 135 days after the date of publication of this preliminary determination, pursuant to section 735(a)(2) of the Act.²²

²² See 19 CFR 351.210(e).

International Trade Commission (ITC) Notification

In accordance with section 733(f) of the Act, we will notify the ITC of our affirmative preliminary determination of sales at LTFV. Because the preliminary determination in this investigation is affirmative, section 735(b)(2) of the Act requires that the ITC make its final determination whether the domestic industry in the United States is materially injured, or threatened with material injury, by reason of imports of IMTDC from the PRC before the later of 120 days after the date of this preliminary determination or 45 days after our final determination. Because we are postponing the deadline for our final determination to 135 days from the date of publication of this preliminary determination, as discussed above, the ITC will make its final determination no later than 45 days after our final determination.

This determination is issued and published in accordance with sections 733(f) and 777(i)(1) of the Act and 19 CFR 351.205(c).

Dated: May 31, 2016.
Paul Piquado,
Assistant Secretary for Enforcement and Compliance.

List of Topics Discussed in the Preliminary Decision Memorandum:

Summary

Background

Selection of Respondents

Period of Investigation

Postponement of Final Determination and Extension of Provisional Measures

Scope Comments

Scope of the Investigation

Product Characteristics

Discussion of the Methodology

Non-Market Economy Country

Surrogate Country and Surrogate Value Comments

Separate Rates

Dumping Margin for the Separate Rate Companies

Combination Rates

The PRC-wide Entity

Application of Facts Available and Adverse Inferences

Application of Partial AFA

Single Entity Treatment

Date of Sale

Fair Value Comparisons

U.S. Price

Normal Value

Factor Valuation Methodology

Verification

Export Subsidy Adjustment

International Trade Commission Notification

Conclusion

Appendix I: Scope of the Investigation

The products covered by this investigation are iron mechanical transfer drive components, whether finished or unfinished (i.e., blanks or castings). Subject iron mechanical transfer drive components are in the form of wheels or cylinders with a center bore hole that may have one or more grooves or teeth in their outer circumference that guide or mesh with a flat or ribbed belt or like device and are often referred to as sheaves, pulleys, flywheels, flat pulleys, idlers, conveyer pulleys, synchronous sheaves, and timing pulleys. The products covered by this investigation also include bushings, which are iron mechanical transfer drive components in the form of a cylinder and which fit into the bore holes of other mechanical transfer drive components to lock them into drive shafts by means of elements such as teeth, bolts, or screws.

Iron mechanical transfer drive components subject to this investigation are those not less than 4.00 inches (101 mm) in the maximum nominal outer diameter.

Unfinished iron mechanical transfer drive components (i.e., blanks or castings) possess the approximate shape of the finished iron mechanical transfer drive component and have not yet been machined to final specification after the initial casting, forging or like operations. These machining processes may include cutting, punching, notching, boring, threading, mitering, or chamfering.

Subject merchandise includes iron mechanical transfer drive components as defined above that have been finished or machined in a third country, including but not limited to finishing/machining processes such as cutting, punching, notching, boring, threading, mitering, or chamfering, or any other processing that would not otherwise remove the merchandise from the scope of the investigation if performed in the country of manufacture of the iron mechanical transfer drive components.

Subject iron mechanical transfer drive components are covered by the scope of the investigation regardless of width, design, or iron type (e.g., gray, white, or ductile iron). Subject iron mechanical transfer drive components are covered by the scope of the investigation regardless of whether they have non-iron attachments or parts and regardless of whether they are entered with other mechanical transfer drive components or as part of a mechanical transfer drive assembly (which typically includes one or more of the iron mechanical transfer drive components identified above, and which may also include other parts such as a belt, coupling and/or shaft). When entered as a mechanical transfer drive assembly, only the iron components that meet the physical description of covered merchandise are covered merchandise, not the other components in the mechanical transfer drive assembly (e.g., belt, coupling, shaft).

For purposes of this investigation, a covered product is of “iron” where the article has a carbon content of 1.7 percent by weight or above, regardless of the presence and amount of additional alloying elements.

Excluded from the scope are finished torsional vibration dampers (TVDs). A finished TVD is an engine component composed of three separate components: an inner ring, a rubber ring and an outer ring. The inner ring is an iron wheel or cylinder with a bore hole to fit a crank shaft which forms a seal to prevent leakage of oil from the engine. The rubber ring is a dampening medium between the inner and outer rings that effectively reduces the torsional vibration. The outer ring, which may be made of materials other than iron, may or may not have grooves in its outer circumference. To constitute a finished excluded TVD, the product must be composed of each of the three parts identified above and the three parts must be permanently affixed to one another such that both the inner ring and the outer ring are permanently affixed to the rubber ring. A finished TVD is excluded only if it meets the physical description provided above; merchandise that otherwise meets the description of the scope and does not satisfy the physical description of excluded finished TVDs above is still covered by the scope of the investigation regardless of end use or identification as a TVD.

The scope also excludes light-duty, fixed-pitch, non-synchronous sheaves (“excludable LDFPN sheaves”) with each of the following characteristics: Made from grey iron designated as ASTM (North American specification) Grade 30 or lower, GB/T (Chinese specification) Grade HT200 or lower, DIN (German specification) GG 20 or lower, or EN (European specification) EN-GJL 200 or lower; having no more than two grooves; having a maximum face width of no more than 1.75 inches, where the face width is the width of the part at its outside diameter; having a maximum outside diameter of not more than 18.75 inches; and having no teeth on the outside or datum diameter. Excludable LDFPN sheaves must also either have a maximum straight bore size of 1.6875 inches with a maximum hub diameter of 2.875 inches; or else have a tapered bore measuring 1.625 inches at the large end, a maximum hub diameter of 3.50 inches, a length through tapered bore of 1.0 inches, exactly two tapped holes that are 180 degrees apart, and a 2.0-inch bolt circle on the face of the hub. Excludable LDFPN sheaves more than 6.75 inches in outside diameter must also have an arm or spoke construction.²³ Further, excludable LDFPN sheaves must have a groove profile as indicated in the table below:

²³ An arm or spoke construction is where arms or spokes (typically 3 to 6) connect the outside diameter of the sheave with the hub of the sheave. This is in contrast to a block construction (in which the material between the hub and the outside diameter is solid with a uniform thickness that is the same thickness as the hub of the sheave) or a web construction (in which the material between the hub and the outside diameter is solid but is thinner than at the hub of the sheave).

Size (belt profile) | Outside diameter (inches) | Top width range of each groove (inches) | Maximum height (inches) | Angle
MA/AK (A, 3L, 4L) | ≤5.45 | 0.484-0.499 | 0.531 | 34°
MA/AK (A, 3L, 4L) | >5.45 but ≤18.75 | 0.499-0.509 | 0.531 | 38°
MB/BK (A, B, 4L, 5L) | ≤7.40 | 0.607-0.618 | 0.632 | 34°
MB/BK (A, B, 4L, 5L) | >7.40 but ≤18.75 | 0.620-0.631 | 0.635 | 38°

In addition to the above characteristics, excludable LDFPN sheaves must also have a maximum weight (pounds-per-piece) as follows: For excludable LDFPN sheaves with one groove and an outside diameter of greater than 4.0 inches but less than or equal to 8.0 inches, the maximum weight is 4.7 pounds; for excludable LDFPN sheaves with two grooves and an outside diameter of greater than 4.0 inches but less than or equal to 8.0 inches, the maximum weight is 8.5 pounds; for excludable LDFPN sheaves with one groove and an outside diameter of greater than 8.0 inches but less than or equal to 12.0 inches, the maximum weight is 8.5 pounds; for excludable LDFPN sheaves with two grooves and an outside diameter of greater than 8.0 inches but less than or equal to 12.0 inches, the maximum weight is 15.0 pounds; for excludable LDFPN sheaves with one groove and an outside diameter of greater than 12.0 inches but less than or equal to 15.0 inches, the maximum weight is 13.3 pounds; for excludable LDFPN sheaves with two grooves and an outside diameter of greater than 12.0 inches but less than or equal to 15.0 inches, the maximum weight is 17.5 pounds; for excludable LDFPN sheaves with one groove and an outside diameter of greater than 15.0 inches but less than or equal to 18.75 inches, the maximum weight is 16.5 pounds; and for excludable LDFPN sheaves with two grooves and an outside diameter of greater than 15.0 inches but less than or equal to 18.75 inches, the maximum weight is 26.5 pounds.

The scope also excludes light-duty, variable-pitch, non-synchronous sheaves with each of the following characteristics: Made from grey iron designated as ASTM (North American specification) Grade 30 or lower, GB/T (Chinese specification) Grade HT200 or lower, DIN (German specification) GG 20 or lower, or EN (European specification) EN-GJL 200 or lower; having no more than 2 grooves; having a maximum overall width of less than 2.25 inches with a single groove, or of 3.25 inches or less with two grooves; having a maximum outside diameter of not more than 7.5 inches; having a maximum bore size of 1.625 inches; having either one or two identical, internally-threaded (i.e., with threads on the inside diameter), adjustable (rotating) flange(s) on an externally-threaded hub (i.e., with threads on the outside diameter) that enable(s) the width (opening) of the groove to be changed; and having no teeth on the outside or datum diameter.

The scope also excludes certain IMTDC bushings. An IMTDC bushing is excluded only if it has a tapered angle of greater than or equal to 10 degrees, where the angle is measured between one outside tapered surface and the directly opposing outside tapered surface.

The merchandise covered by this investigation is currently classifiable under Harmonized Tariff Schedule of the United States (“HTSUS”) subheadings 8483.30.8090, 8483.50.6000, 8483.50.9040, 8483.50.9080, 8483.90.3000, 8483.90.8080. Covered merchandise may also enter under the following HTSUS subheadings: 7325.10.0080, 7325.99.1000, 7326.19.0010, 7326.19.0080, 8431.31.0040, 8431.31.0060, 8431.39.0010, 8431.39.0050, 8431.39.0070, 8431.39.0080, and 8483.50.4000. These HTSUS subheadings are provided for convenience and customs purposes. The written description of the scope of the investigation is dispositive.

[FR Doc. 2016-13533 Filed 6-7-16; 8:45 am]

BILLING CODE 3510-DS-P